DEPARTMENT OF THE INTERIOR

National Park Service

[NPS-WASO-NRNHL-DTS#-35636; PPWOCRADI0, PCU00RP14.R50000]

National Register of Historic Places; Notification of Pending Nominations and Related Actions

AGENCY: National Park Service, Interior.

ACTION: Notice.

SUMMARY: The National Park Service is soliciting electronic comments on the significance of properties nominated before April 1, 2023, for listing or related actions in the National Register of Historic Places.

DATES: Comments should be submitted electronically by April 27, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 1, 2023. Pursuant to § 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

MICHIGAN

Wayne County

Cadieux School, 389 Saint Clair Ave., Grosse Pointe, SG100008912

SOUTH CAROLINA

Oconee County

Walhalla High School, 201 North College St., Walhalla, SG100008937

VIRGINIA

Floyd County

Roberson Mill, 1367 Roberson Mill Rd. SE, Floyd vicinity, SG100008947

Halifax County

Clarkton, 1216 Hogwallow Rd., Nathalie vicinity, SG100008948

Additional documentation has been received for the following resources:

ARIZONA

Pima County

Catalina Vista Historic District (Additional Documentation), 2110 and 2114 East Grant Rd., Tucson, AD03000317

Miracle Mile Historic District (Additional Documentation), 534 and 536 North Stone Ave., Tucson, AD100001208

Feldman's Historic District (Additional Documentation), 1330 North Tyndall Ave., Tucson, AD89001460

OKLAHOMA

Johnston County

Chickasaw Hall (Additional Documentation and name change), Murray State College campus, Tishomingo, AD81000464

A request to move has been requested for the following resource:

VIRGINIA

Chesapeake Independent City

Cornland School, 2309 Benefit Rd., Chesapeake, MV15000546

Authority: Section 60.13 of 36 CFR part 60

Dated: April 5, 2023.
Sherry A Frear,
Chief, National Register of Historic Places/National Historic Landmarks Program.

[FR Doc. 2023-07610 Filed 4-11-23; 8:45 am]

BILLING CODE 4312-52-P